DEPARTMENT OF COMMERCE

National Oceanic and Atmospheric Administration

[I.D. 063006A]

Fisheries of the Caribbean, Gulf of Mexico, and South Atlantic; Snapper-Grouper Fishery Off the Southern Atlantic States and Reef Fish Fishery in the Gulf of Mexico

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Neil Allen on behalf of The Georgia Aquarium. If granted, the EFP would authorize the applicant, with certain conditions, to collect limited numbers of groupers, snappers, tilefish, sea basses, jacks, spadefish, grunts, porgies, mackerel, cero, cobia, dolphin fish, spiny lobster, little tunny, and triggerfish. Specimens would be collected primarily from Federal waters off the coast of Georgia but may also be collected from Federal waters off the coasts of South Carolina, Florida, Alabama, Louisiana, Mississippi, and Texas during 2006, 2007, and 2008, and displayed at The Georgia Aquarium, located in Atlanta, Georgia.

DATES: Comments must be received no later than 5 p.m., Eastern standard time, on July 24, 2006.

ADDRESSES: Comments on the application may be sent via fax to 727-824-5308 or mailed to: Mark Sramek, Southeast Regional Office, NMFS, 263 13th Avenue South, St. Petersburg, FL 33701. Comments may also be submitted by e-mail. The mailbox address for providing e-mail comments is Georgia.Aquarium@noaa.gov. Include in the subject line of the e-mail document the following text: Comment on Georgia Aquarium EFP Application. The application and related documents are available for review upon written request to the address above or the e-mail address below.

FOR FURTHER INFORMATION CONTACT: Mark Sramek, 727-824-5311; fax 727-824-5308; e-mail: Mark.Sramek@noaa.gov.

SUPPLEMENTARY INFORMATION: The EFP is requested under the authority of the Magnuson-Stevens Fishery Conservation and Management Act (16 U.S.C. 1801 et seq.), and regulations at 50 CFR 600.745(b) concerning exempted fishing.

According to the applicant, The Georgia Aquarium is a public, non-profit institution located in Atlanta, Georgia. Its mission is to provide entertainment and education and to support conservation through aquatic exhibits displaying animals from around the world.

The proposed collection for public display involves activities otherwise prohibited by regulations implementing the Fishery Management Plans (FMP) for the Snapper-Grouper Fisheries of the South Atlantic Region, Spiny Lobster Fishery of the South Atlantic Region, Dolphin and Wahoo Fishery of the Atlantic, Reef Fishes of the Gulf of Mexico, or Coastal Migratory Pelagics Fisheries of the South Atlantic Region and the Gulf of Mexico Region.

The applicant requires authorization to harvest and possess the following numbers of fishes during each 12-month period from July 15, 2006, to July 14, 2008: 50 almaco jack, 100 Atlantic spadefish, 10 bank sea bass, 10 black grouper, 20 black margate, 50 black sea bass, 50 black snapper, 100 bluestriped grunt, 10 cero, 20 cobia, 10 coney, 30 cubera snapper, 20 dog snapper, 20 dolphin fish, 100 French grunt, 10 gag, 5 golden tilefish, 1 goliath grouper, 20 gray snapper, 5 gray triggerfish, 10 graysby, 20 greater amberjack, 5 hogfish, 20 jolthead porgy, 20 knobbed porgy, 20 lane snapper, 10 lesser amberjack, 10 little tunny, 10 mahogany snapper, 10 margate, 20 mutton snapper, 1 Nassau grouper, 3 ocean triggerfish, 3 queen triggerfish, 10 red grouper, 10 red hind, 10 red porgy, 50 red snapper, 10 rock hind, 20 rock sea bass, 10 saucereye porgy, 10 scamp, 50 schoolmaster, 5 sheepshead, 1 snowy grouper, 10 Spanish mackerel, 5 speckled hind, 10 spiny lobster, 50 tomtate, 50 vermilion snapper, 2 wahoo, 1 warsaw grouper, 5 wreckfish, 1 yellowfin grouper, 1 yellowmouth grouper, and 30 yellowtail snapper. Specimens would be collected primarily from Federal waters off the coast of Georgia but may also be collected from Federal waters off the coasts of South Carolina, Florida, Alabama, Louisiana, Mississippi, and Texas during 2006, 2007, and 2008.

Fishes would be captured in some areas using barrier and hand nets in conjunction with SCUBA, hook and line, and traps. The barrier net would be set up underwater to provide a barrier to a school of fish. The fish would be herded into the barrier net and then hand netted. The net would be set for approximately 1 hour at a time and monitored by divers using SCUBA at all times. The net is 50 ft (15.2 m) long and 5 ft (1.5 m) deep with 1-inch (2.5-cm) monofilament mesh. Hook and line would be employed at depths less than 100 ft (30.4 m) to capture bottom-dwelling fish, and in the water column for other species. Methods would be identical to that used by charter fishing boats. Fish traps will be used in some areas and are constructed from 1.5-inch (3.8-cm) wire mesh and are approximately 3 ft (1 m) long, 3 ft (1 m) wide and 4 ft (1.2 m) high. The entrance to the traps is a vertical slit 2 inches (5 cm) wide and 12 inches (0.30 m) long. Ten traps would be deployed for up to 10 fishing periods of 12 hours each.

NMFS finds this application warrants further consideration. Based on a preliminary review, NMFS intends to issue an EFP. Possible conditions the agency may impose on this permit, if it is indeed granted, include but are not limited to: Reduction in the number or species of fish to be collected; restrictions on the placement of traps; restrictions on the size of fish to be collected; prohibition of the harvest of any fish with visible external tags; and specification of locations, dates, and/or seasons allowed for collection of particular fish species. A final decision on issuance of the EFP will depend on a NMFS review of public comments received on the application, consultations with the affected states, the Gulf of Mexico Fishery Management Council, the South Atlantic Fishery Management Council, and the U.S. Coast Guard, and a determination that it is consistent with all applicable laws. The applicant requests a 24-month effective period for the EFP.

Authority: 16 U.S.C. 1801 et seq.

Dated: June 30, 2006.
James P. Burgess,
Acting Director, Office of Sustainable Fisheries, National Marine Fisheries Service.

[FR Doc. E6-10605 Filed 7-6-06; 8:45 am]

BILLING CODE 3510-22-S